DEPARTMENT OF DEFENSE

Office of the Secretary

32 CFR Part 199

RIN 0720-AA86

Coordination of Benefits Between TRICARE and the Department of Veterans Affairs

AGENCY: Department of Defense.

ACTION: Withdrawal; correction.

SUMMARY: The Department of Defense published a withdrawal of a final rule (68 FR 51705, August 28, 2003) on Coordination of Benefits Between TRICARE and the Department of Veterans Affairs (68 FR 49732, August 19, 2003). This document is published to correct the status of that rule as a “proposed” rule. All other information remains unchanged.

DATES: The correction effective September 5, 2003.

FOR FURTHER INFORMATION CONTACT: L.M. Bynum, 703-601-4722 ext. 109.

Dated: August 21, 2003.
L.M. Bynum,
Alternate OSD Federal Register Liaison, Department of Defense.

[FR Doc. 03-22588 Filed 9-4-03; 8:45 am]

BILLING CODE 5001-08-M